DEPARTMENT OF THE INTERIOR

Bureau of Ocean Energy Management

Gulf of Mexico, Outer Continental Shelf (OCS), Western Planning Area; (WPA) Oil and Gas Lease Sale 238; MMAA 104000

AGENCY: Bureau of Ocean Energy Management (BOEM), Interior.

ACTION: Notice of Availability (NOA) of a Record of Decision (ROD) for WPA Lease Sale 238, most recently analyzed in the Gulf of Mexico OCS Oil and Gas Lease Sales: 2014-2016; Western Planning Area Lease Sales 238, 246, and 248; Final Supplemental Environmental Impact Statement (WPA 238, 246, and 248 Supplemental EIS).

SUMMARY: BOEM prepared a ROD for proposed oil and gas WPA Lease Sale 238, scheduled for August 20, 2014. The Assistant Secretary, Land and Minerals Management (ASLM) has signed that ROD. The proposed lease sale is in the Gulf of Mexico's WPA off the States of Texas and Louisiana. Proposed WPA Lease Sale 238 is the third WPA lease sale scheduled in the OCS Oil & Gas Leasing Program for 2012-2017 (Five-Year Program). In preparing the ROD, BOEM considered alternatives to the proposed action, the potential impacts as presented in the WPA 238, 246, and 248 Supplemental EIS, and all comments received throughout the National Environmental Policy Act (NEPA) process. The WPA 238, 246, and 248 Supplemental EIS evaluated the environmental and socioeconomic impacts for proposed WPA Lease Sale 238. The WPA 238, 246, and 248 Supplemental EIS tiers from and incorporates by reference, the Gulf of Mexico OCS Oil and Gas Lease Sales: 2013-2014 Western Planning Area Lease Sale 233/Central Planning Area Lease Sale 231—Final Supplemental Environmental Impact Statement and the Gulf of Mexico OCS Oil and Gas Lease Sales: 2012-2017; Western Planning Area Lease Sales 229, 233, 238, 246, and 248; Central Planning Area Lease Sales 227, 231, 235, 241, and 247—Final Environmental Impact Statement. One comment letter was received after publication of the Final WPA 238, 246, and 248 Supplemental EIS from the United States Environmental Protection Agency (USEPA), which did not raise any new or significant issues not already discussed.

SUPPLEMENTARY INFORMATION: In the WPA 238, 246, and 248 Supplemental EIS, BOEM evaluated the alternatives that are summarized below:

Alternative A—The Proposed Action: This was BOEM's preferred alternative. This alternative would offer for lease all unleased blocks within the proposed WPA lease sale area for oil and gas operations with the following exception: Whole and partial blocks within the boundary of the Flower Garden Banks National Marine Sanctuary (i.e., the boundary as of the publication of the WPA 238, 246, and 248 Supplemental EIS).

The unleased whole and partial blocks in the WPA that the Department of the Interior (DOI) will offer for leasing in proposed WPA Lease Sale 238 are listed in the document entitled “List of Blocks Available for Leasing,” which is included in the Final Notice of Sale Package for WPA Lease Sale 238. The proposed WPA lease sale area encompasses virtually all of the WPA's 28.58 million acres. As of June 2014, approximately 21.5 million acres of the proposed WPA lease sale area are currently unleased. The estimated amount of resources projected to be developed as a result of the proposed WPA lease sale is 0.116-0.200 billion barrels of oil and 0.538-0.938 trillion cubic feet of gas.

Alternative B—The Proposed Action Excluding the Unleased Blocks Near the Biologically Sensitive Topographic Features: This alternative would offer for lease all unleased blocks within the proposed WPA lease sale area, as described for a proposed action (Alternative A), but it would exclude from leasing any unleased blocks subject to the Topographic Features Stipulation. The estimated amount of resources projected to be developed is 0.116-0.200 BBO and 0.538-0.938 Tcf of gas. The number of blocks that would not be offered under Alternative B represents only a small percentage of the total number of blocks to be offered under Alternative A; therefore, it is assumed that the levels of activity for Alternative B would be essentially the same as those projected for the WPA proposed action.

Alternative C—No Action: This alternative is the cancellation of proposed WPA Lease Sale 238 and is identified as the environmentally preferred alternative.

After careful consideration, the ASLM selected the proposed action, identified as BOEM's preferred alternative (Alternative A) in the WPA 238, 246, and 248 Supplemental EIS. The ASLM's selection of the preferred alternative meets the purpose and need for the proposed action, as identified in the WPA 238, 246, and 248 Supplemental EIS, and provides for an orderly resource development with protection of the human, marine, and coastal environments while also ensuring that the public receives an equitable return for these resources and that free-market competition is maintained.

Record of Decision Availability: To obtain a single printed or CD copy of the ROD for proposed WPA Lease Sale 238, you may contact BOEM, Gulf of Mexico OCS Region, Public Information Office (GM 335A), 1201 Elmwood Park Boulevard, New Orleans, Louisiana 70123-2394 (1-800-200-GULF). An electronic copy of the ROD is available on BOEM's Internet Web site at http://www.boem.gov/nepaprocess/.

FOR FURTHER INFORMATION CONTACT: For more information on the ROD, you may contact Mr. Gary D. Goeke, Bureau of Ocean Energy Management, Gulf of Mexico OCS Region, 1201 Elmwood Park Boulevard (GM 623E), New Orleans, Louisiana 70123-2394. You may also contact Mr. Goeke by telephone at 504-736-3233.

Authority: This NOA is published pursuant to the regulations (40 CFR part 1506) implementing the provisions of the National Environmental Policy Act (NEPA) of 1969, as amended (42 U.S.C. 4321 et seq.).

Dated: July 14, 2014.
Walter D. Cruickshank,
Acting Director, Bureau of Ocean Energy Management.

[FR Doc. 2014-16958 Filed 7-17-14; 8:45 am]

BILLING CODE 4310-MR-P